DEPARTMENT OF STATE

[Public Notice 10933]

60-Day Notice of Proposed Information Collection: Evaluation of the Professional Fellows Program

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 13, 2020.

ADDRESSES: You may submit comments by the following methods:

• Web: persons with access to the internet may comment on this notice by going to www.Regulations.gov. You can search for the document by entering “Docket Number: DOS-2019-0038” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, to Natalie Donahue, Chief of Evaluation, Bureau of Educational and Cultural Affairs, who may be reached on (202) 632- 6193 or at DonahueNR@state.gov.

SUPPLEMENTARY INFORMATION:

• Title of Information Collection: Evaluation of the Professional Fellows Program (PFP).

• OMB Control Number: None.

• Type of Request: New Collection.

• Originating Office: Educational and Cultural Affairs (ECA/P/V).

• Form Number: No form.

• Respondents: Contacts at institutions and organizations that hosted and interacted with foreign Fellows; families that hosted PFP fellows in their homes.

• Estimated Number of Professional Contact Survey Respondents: 1,526.

• Estimated Number of Professional Contact Survey Responses: 300.

• Average Time per Professional Contact Survey Response: 20 minutes.

• Total Estimated Burden Time for Professional Contact Survey: 100 hours.

• Estimated Number of Professional Contact Interviews: 40.

• Estimated Number of Number of Professional Contact Interview Responses: 40.

• Average Time per Professional Contact Interview: 40 minutes.

• Total Estimated Burden Time for Professional Contact Interviews: 26.7 hours.

• Estimated Number of Host Family Survey Respondents: 855.

• Estimated Number of Host Family Survey Responses: 86.

• Average Time per Host Family Survey Response: 15 minutes.

• Total Estimated Burden Time for Host Family Survey Response: 21.5 hours.

• Estimated Number of Homestay Host Interviews: 40.

• Estimated Number of Homestay Host Interview Responses: 40.

• Average Time per Homestay Host Interview: 30 minutes.

• Total Estimated Burden Time for Homestay Host Interviews: 20 hours.

• Total Estimated Burden Time (All Instruments for U.S Audiences): 168 hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The PFP is a two-way, global exchange program for mid-level emerging leaders from select foreign countries. The PFP is managed by the Professional Fellows Division of the Bureau of Educational and Cultural Affairs. Foreign fellows come to the United States for a five- to six-week fellowship, including a minimum four-week tailored placement in a relevant professional organization (NGO's, business, government, etc.) and an end of program conference in Washington, DC. While in the Unites States, the foreign fellows volunteer in their local community, stay with local families, and create follow-on project plans to implement back in their home country. A select number of U.S. counterparts travel overseas on an outbound program that is approximately two weeks in length to directly support foreign fellows' follow-on projects. This program is funded pursuant to the Mutual Educational and Cultural Exchanges Act of 1961 (22 U.S.C. 2451-2464).

To fully evaluate the effectiveness and impacts of the program, the U.S. Department of State's Bureau of Educational and Cultural Affairs (ECA) intends to collect data to include the perspectives of:

• The foreign fellows who participated in the PFP between 2013 and 2018;

• U.S. professionals who interacted the foreign fellows during their exchange in the United States; and

• U.S. families who hosted the foreign fellows during their stay.

In order to do so, ECA contracted with GDIT to administer surveys and conduct face-to-face interviews with the stakeholders listed above.

Methodology

Data will be collected with a focus on answering how the program is advancing DoS strategic policy priorities, how well the program is meeting its goals and how alumni have operationalized skills and knowledge learned during their exchange experience to promote mutual understanding, create positive change, and build collaborative networks.

The evaluation will employ a mixed-methods data collection strategy, including face-to face interviews and online surveys. Online surveys will be administered to all foreign fellows, U.S. professionals and U.S. homestay hosts. To collect more in depth responses, face-to-face interviews will be conducted with a subset of foreign fellows, foreign colleagues, U.S. professional contacts and U.S. homestay hosts. The combination of methods will allow GDIT to generate a quantitative profile of the program and at the same time, capture rich qualitative data.

Nini Forino,
Acting Deputy Assistant Secretary for Policy, Bureau of Educational and Cultural Affairs, Department of State.

[FR Doc. 2019-24638 Filed 11-12-19; 8:45 am]

BILLING CODE 4710-05-P